DEPARTMENT OF ENERGY

Federal Energy Regulatory Commission

[Project No. P-2242-051]

Eugene Water and Electric Board; Notice of Availability of Environmental Assessment

April 23, 2003.

In accordance with the National Environmental Policy Act of 1969, as amended, and the Federal Energy Regulatory Commission's (Commission) regulations (18 CFR part 380), Commission staff has reviewed plans, filed December 9, 2002, to construct additional emergency spillway capacity at the Carmen-Smith Hydroelectric Project, FERC No. 2242. An environmental assessment (EA) has been prepared on the plans, and is available for public review. The Carmen-Smith Project is located on the McKenzie River in Linn and Lane counties, Oregon.

The project licensee (Eugene Water and Electric Board) plans to construct additional emergency spillway capacity at the project's Trail Bridge Development so that the project can safely pass Probable Maximum Flood (PMF) flows. In accordance with part 12 of the Commission's regulations and the Commission's engineering guidelines, the licensee must construct the additional spillway capacity to ensure the ability to safely pass the PMF. The work is scheduled for the summer of 2003. In the EA, Commission staff has analyzed the probable environmental effects of the work and have concluded that approval of the proposal would not constitute a major federal action significantly affecting the quality of the human environment.

Copies of the EA are available for review in Public Reference Room 2-A of the Commission's offices at 888 First Street, NE., Washington, DC 20426 or may be viewed on the Commission's Web site at http://www.ferc.gov , using the “FERRIS” link. Enter the docket number excluding the last three digits in the docket number filed to access the document. For assistance, contact FERC Online Support at FERCOnlineSupport@ferc.gov or toll-free at (866) 208-3676, or for TTY, contact (202) 502-8659.

Magalie R. Salas,
Secretary.

[FR Doc. 03-10542 Filed 4-28-03; 8:45 am]

BILLING CODE 6717-01-P